DEPARTMENT OF TRANSPORTATION

Federal Aviation Administration

Notice of Passenger Facility Charge (PFC) Approvals and Disapprovals.

AGENCY: Federal Aviation Administration (FAA), DOT.

ACTION: Monthly Notice of PFC Approvals and Disapprovals. In October 2006, there were six applications approved. This notice also includes information on one application, approved in September 2006, inadvertently left off the September 2006 notice. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Huntsville-Madison County Airport Authority, Huntsville, Alabama.

Application Number: 06-15-C-00-HSV.

Application Type: Impose and use a PFC.

PFC Level: $4.50.

Total PFC Revenue Approved in This Decision: $5,182,158.

Earliest Charge Effective Date: April 1, 2008.

Estimated Charge Expiration Date: May 1, 2010.

Classes of Air Carriers Not Required to Collect PFC's: (1) Air taxi/commercial operators having fewer than 500 annual passengers; (2) certified air carriers having fewer than 500 annual passengers; and (3) certified route air carriers having fewer than 500 annual passengers.

Determination: Approved. Based on information contained in the public agency's application, the FAA has determined that each approved class accounts for less than 1 percent of the total annual enplanements at Huntsville International Airport.

Brief Description of Project Approved for Collection and Use: Taxiway L crossfield connector.

Decision Date: September 28, 2006.

For Further Information Contact: Rod Nicholson, Jackson Airports District Office, (601) 664-9884.

Public Agency: Golden Triangle Regional Airport Authority, Columbus, Mississippi.

Application Number: 06-05-C-00-GTR.

Application Type: Impose and use a PFC.

PFC Level: $4.50.

Total PFC Revenue Approved in This Decision: $1,106,280.

Earliest Charge Effective Date: October 1, 2009.

Estimated Charge Expiration Date: October 1, 2015.

Class of Air Carriers Not Required to Collect PFC's: None.

Brief Description of Project Approved for Collection and Use: Acquire property.

Decision Date: October 3, 2006.

For Further Information Contact: David Shumate, Jackson Airports District Office, (601) 664-9882.

Public Agency: City of Fargo Municipal Airport Authority, Fargo, North Dakota.

Application Number: 06-07-C-00-FAR.

Application Type: Impose and use a PFC.

PFC Level: $4.50.

Total PFC Revenue Approved in This Decision:: $8,580,678.

Earliest Charge Effective Date: May 1, 2017.

Estimated Charge Expiration Date: August 1, 2023.

Class of Air Carriers Not Required to Collect PFC's: Air taxi/commercial operators filing FAA Form 1800-31.

Determination: Approved. Based on information contained in the public agency's application, the FAA has determined that the approved class accounts for less than 1 percent of the total annual enplanements at Hector International Airport.

Brief Description of Projects Approved for Collection and Use:

PFC application.

PFC annual audits.

PFC administrative costs.

South general aviation lighting.

Ticket counter modifications.

South general aviation manhole repair and drainage improvements.

West terminal and south general aviation gate modification and terminal fence modifications.

Terminal area signage rehabilitation.

Airfield sweeper.

Land acquisition—parcel 1.

Terminal security door modifications.

Snow removal equipment truck replacement.

Passenger terminal study.

Passenger terminal expansion.

Taxiways A and D shoulder rehabilitation; taxiways A and D lighting.

South general aviation concrete rehabilitation.

Decision Date: October 11, 2006.

For Further Information Contact: Thomas Schauer, Bismarck Airports District Office, (701) 323-7383.

Public Agency: City of Springfield, Missouri.

Application Number: 06-06-C-00-SGF.

Application Type: Impose and use a PFC.

PFC Level: $4.50.

Total PFC Revenue Approved in This Decision: $83,651,097.

Earliest Charge Effective Date: January 1, 2007.

Estimated Charge Expiration Date: January 1, 2036.

Class of Air Carriers Not Required to Collect PFC's: Air taxi/commercial operators.

Determination: Approved. Based on information contained in the public agency's application, the FAA has determined that the approved class accounts for less than 1 percent of the total annual enplanements at Springfield Branson National Airport.

Brief Description of Project Approved for Collection and Use: Midfield replacement terminal.

Decision Date: October 17, 2006.

For Further Information Contact: Lorna Sandridge, Central Region Airports Division, (816) 329-2641.

Public Agency: City of Tallahassee, Florida.

Application Number: 06-06-C-00-TLH.

Application Type: Impose and use a PFC.

PFC Level: $4.50.

Total PFC Revenue Approved in This Decision: $25,280,000.

Charge Effective Date: February 1, 2007.

Estimated Charge Expiration Date: October 1, 2015.

Class of Air Carriers Not Required to Collect PFC's: Nonscheduled/on-demand air carriers filing FAA Form 1800-31.

Determination: Approved. Based on information contained in the public agency's application, the FAA has determined that the approved class accounts for less than 1 percent of the total annual enplanements at Tallahassee Regional Airport.

Brief Description of Projects Approved for Collection and Use:

Cargo apron expansion.

Cargo apron access.

Commercial runway/taxiway storm water management.

Terminal graphics (wayfinding) improvements.

Terminal improvements.

General aviation access road improvements.

Landside directional guidance improvements.

In-line baggage handling system.

Terminal rehabilitation—phase II.

Acquire replacement aircraft rescue and firefighting vehicle.

Acquire runway vacuum truck.

Electronic airport layout plan.

Runway 9/27 pre-design (refurbishment/reconstruction analysis).

Taxiway Z rehabilitation design.

Taxiway S rehabilitation design.

Taxiway M by pass design.

South apron expansion design.

Airfield signage improvements design.

Airfield lighting improvements design.

Airport access control and monitoring system upgrades design.

Brief Description of Withdrawn Project: Runway 18/36 rehabilitation design.

Date of Withdrawal: October 13, 2006.

Decision Date: October 19, 2006.

For Further Information Contact: Susan Moore, Orlando Airports District Office, (407) 812-6331, extension 120.

Public Agency: City of St. George, Utah.

Application Number: 06-04-U-00-SGU.

Application Type: Use PFC revenue.

PFC Level: $4.50.

Total PFC Revenue to Be Used in This Decision: $839,500.

Charge Effective Date: July 1, 2004.

Estimated Charge Expiration Date: April 1, 2007.

Class of Air Carriers Not Required to Collect PFC's: No change from previous decision.

Brief Description of Project Approved for Use: Construct replacement airport.

Decision Date: October 24, 2006.

For Further Information Contact: John Bauer, Denver Airports District Office, (303) 342-1259.

Public Agency: County of Albany and City of Laramie, Laramie, Wyoming.

Application Number: 06-02-C-00-LAR.

Application Type: Impose and use a PFC.

PFC Level: $4.50.

Total PFC Revenue Approved in This Decision: $252,009.

Earliest Charge Effective Date: December 1, 2006.

Estimated Charge Expiration Date: April 1, 2013.

Class of Air Carriers Not Required to Collect PFC's: Air taxi/commercial operators filing FAA Form 1800-31.

Determination: Approved. Based on information contained in the public agency's application, the FAA has determined that the approved class accounts for less than 1 percent of the total annual enplanements at Laramie Regional Airport.

Brief Description of Projects Approved for Collection and Use:

Construct electrical equipment building.

Rehabilitate access taxiway.

Construct access taxiway.

Extend runway 3 (design and phases 1 and 2).

Install runway 3/21 distance-to-go signs.

Install runway 3 precision approach path indicator.

Rehabilitate runway lighting system.

Rehabilitate taxiway lighting system.

Install runway 12 precision approach path indicator.

Update airport layout plan.

Rehabilitate taxiways A, B, D, E, F, G, and H.

Construct taxiway F2.

Construct taxiway G (phases 1, 2 and 3).

Acquire aircraft rescue and firefighting vehicle.

Design of apron rehabilitation and construction of taxiway and apron.

PFC administration.

Decision Date: October 25, 2006.

For Further Information Contact: Chris Schaffer, Denver Airports District Office, (303) 342-1258.

Amendments to PFC Approvals
Amendment No. City, State | Amendment approved date | Original approved net PFC revenue (dollars) | Amended approved net PFC revenue (dollars) | Original estimated charge exp. date | Amended estimated charge exp. date
01-03-C-02-GCC Gillette, WY | 09/27/06 | 178,537 | 162,537 | 06/01/04 | 07/01/05
99-03-C-04-DRO Durango, CO | 09/29/06 | 729,451 | 695,885 | 03/01/03 | 03/01/03
02-04-U-01-DRO Durango, CO | 09/29/06 | NA | NA | 03/01/03 | 03/01/03
00-03-C-01-AZO Kalamazoo, MI | 09/29/06 | 3,298,376 | 3,232,429 | 12/01/03 | 12/01/03
99-04-C-06-BGM Binghamton, NY | 10/02/06 | 1,204,917 | 1,109,497 | 01/01/01 | 01/01/01
02-05-C-06-BGM Binghamton, NY | 10/02/06 | 1,451,670 | 1,057,019 | 04/01/03 | 04/01/03
03-06-C-03-BGM Binghamton, NY | 10/02/06 | 7,996 | 7,601 | 05/01/03 | 05/01/03
02-05-C-07-BGM Binghamton, NY | 10/03/06 | 1,057,019 | 1,229,462 | 04/01/03 | 04/01/03
04-07-C-02-BGM Binghamton, NY | 10/03/06 | 337,624 | 337,624 | 04/01/04 | 04/01/04
04-07-C-03-BGM Binghamton, NY | 10/19/06 | 337,624 | 559,849 | 04/01/04 | 04/01/04

Dated: Issued in Washington, DC, on November 1, 2006.
Joe Hebert,
Manager, Financial Analysis and Passenger Facility Charge Branch.

[FR Doc. 06-9071 Filed 11-3-06; 8:45 am]

BILLING CODE 4910-13-M